DEPARTMENT OF STATE

[Public Notice 4273]

Bureau of Educational and Cultural Affairs Request for Grant Proposals (RFGPs) for the Project “Cultural and Religious Pluralism in Uzbekistan and the United States”

SUMMARY: The Europe/Eurasia Division of the Office of Citizen Exchanges of the Bureau of Educational and Cultural Affairs announces an open competition for the project, Cultural and Religious Pluralism in Uzbekistan and the United States. Public and private non-profit organizations meeting the provisions described in Internal Revenue Code section 26 U.S.C. 501(c)(3) may submit proposals to conduct a two-component exchange program with Uzbekistan. The first component of the program is for 60 community and religious leaders from Uzbekistan to travel to host communities in the United States for a program on cultural and religious pluralism. The second component is the recruitment of 16 experts on religion and the role of religion in American society who will travel to Uzbekistan to conduct lectures and training programs.

Program Information

Organizations must have four or more years of documented experience in conducting international exchange to be eligible to apply for a grant under this competition.

Overview: The Office of Citizen Exchanges consults with and supports American public and private nonprofit organizations in developing and implementing multi-phased, often multi-year, exchanges of professionals, community leaders, scholars and academics, public policy advocates, non-governmental organization professionals, etc. These exchanges address issues crucial to both the United States and the foreign countries involved; they promote focused, substantive, and cooperative interaction among counterparts; and they entail both theoretical and experiential learning for all participants.

The initiative Cultural and Religious Pluralism in Uzbekistan and the United States will support an outreach program in a number of Uzbek communities to encourage an exchange of ideas about religious tolerance and diversity and the role of religion in a democratic society. The U.S. Embassy in Tashkent will select approximately twelve communities within Uzbekistan where the program will be conducted. The program will expose participants to freedom of religion and church-state issues in the United States, including the study and practice of religion (including Islam) in the United States, interfaith issues and associations, the role of religious organizations in the community, and the role of religion in a democratic political and social structure. ECA estimates that the project will run over a three-year period with the first part of the program commencing in the spring/summer of 2003. It is anticipated that one grant will be awarded under this competition. Requested ECA funding for the project should not exceed $1,305,000. Bureau guidelines state that organizations with less than four years of international exchange experience are limited to no more than $60,000 in ECA funding. Therefore, organizations that do not have more than four years of international exchange experience are not eligible under this competition. Project activities supported by the Department of State should be consistent with the principles of the non-establishment of religion and the separation of church and state. Activities that focus on theology or training in religious doctrine are not appropriate under this competition.

Guidelines: Strong proposals will have the following characteristics:

• A proven track record of working in Uzbekistan;

• Established offices in Uzbekistan and experienced staff with language facility and a commitment by the staff to monitor projects locally to ensure accountability;

• A clear, convincing plan showing how permanent results will be accomplished as a result of the activity funded by the grant.

Public Affairs Section Involvement: Though project administration and implementation are the responsibility of the grantee, the Public Affairs Section (PAS) of the U.S. Embassy in Tashkent will play a primary role in this project. The Public Affairs Section of the U.S. Embassy in Tashkent will evaluate project proposals, coordinate planning with the grantee organization, help coordinate in-country activities (including identification of participating communities), help nominate participants and review grantee nominations, observe in-country activities, debrief participants, work with grantee to solicit and approve follow-on projects, and evaluate project impact. The U.S. Embassy Public Affairs Section in Tashkent and the Bureau of Educational and Cultural Affairs must approve all participants.

Bureau Acknowledgement: Proposal narratives must confirm that all materials developed for the project with funds provided by the Bureau will acknowledge the Bureau of Educational and Cultural Affairs, U.S. Department of State funding for the program. Please note that this will be a formal requirement in all final grant awards.

Project Components: As envisioned by ECA and the Public Affairs Section of the U.S. Embassy in Tashkent, this project will be comprised of two program components that will run concurrently over the three years of the project. Proposals must address both components.

Uzbekistan Community Leaders Component: Proposals should describe a U.S. based program that involves substantive meetings with U.S. experts on the role of religion and religious and cultural pluralism in American life. Proposals should include activities that involve Islamic and other clerics and lay experts, faith-based organizations, and representatives of local government, and others involved in the interplay between church and state. The program should also include observation of classes on religion at religious and secular educational institutions. Groups from two Uzbek communities at a time should travel together to the U.S. for a two to three week program. The program should be based in one U.S. community (approximately two weeks) but include visits to other representative or relevant communities. There will be approximately five participants from each of the communities identified by the U.S. Embassy for a total of approximately 60 participants. Proposals should describe a transparent selection process that will be coordinated with the Public Affairs Section in Tashkent. Uzbek community leaders in the selected regions should include imams, clerics from other religions, government officials responsible for monitoring and regulating religion, people involved in formal and informal religious education (including women), as well as others involved in community religious affairs from the selected communities. The Public Affairs Section of the U.S. Embassy in Tashkent must approve all Uzbek participants in this program. Proposals should identify possible appropriate U.S. hosting communities. Host communities should be chosen based on their ability to accommodate visitors' dietary and worship needs, expose participants to the variety of religious practice in the U.S., offer appropriate academic programs in the vicinity, and demonstrate active faith-based and interfaith community organizations. Proposals should include a plan to address all logistics for the Uzbek participants including international and domestic travel, ground transportation, and lodging arrangements. Also, applicants should include detailed orientation programs for Uzbek participants. Proposals must include a plan for interpretation while in the United States. Interpretation for the participants must be in Uzbek (not Russian).

Follow On: Proposals should describe how applicants would encourage and organize the participants to undertake follow-on activities individually or in groups upon their return to Uzbekistan. These activities might include projects to describe participants' experiences in the U.S. to Uzbek audiences or other community-based projects that would build on the themes of this exchange. These themes include government/religious community relations, interfaith relations, the role of religion in a democratic society, and cultural heritage and its preservation. Proposals should describe how applicants would, in coordination with the U.S. Embassy in Tashkent, assist participants to develop concrete plans for activities such as community presentations and discussions, articles in/interviews with local media outlets, projects to advance interfaith dialogue in their communities, and local community-based projects to explore the diversity of Uzbek religious and cultural heritage.

U.S. Experts Component: This program component should build on the themes of this exchange, including government/religious community relations, interfaith relations, the role of religion in a democratic society, and cultural heritage preservation. This component involves the recruitment, selection, and programming of approximately 16 U.S. experts on religion and the role of religion in American society to travel to Uzbekistan over a three-year period. Each expert should be in Uzbekistan for approximately two weeks. U.S. participants would be expected to prepare speeches and presentations, conduct workshops, and consult with Uzbek peers. For this component, proposals should focus on the same communities identified by the U.S. Embassy for the Uzbek leaders component.

Applicants should describe in detail how U.S. experts would interact with groups in the community including religious leaders, local government officials, students and educators, NGOs, and mahalla leadership. U.S. experts may be asked to address general issues related to religious practice in the United States and to speak on specific issues of interest to the Embassy or the community. U.S. experts may also be identified to participate in special events, conferences, or other relevant activities in connection with other parts of this initiative. Proposals should describe how logistical preparations would be made for the U.S. experts including transportation, lodging, interpretation (if necessary), insurance, visa processing, etc. Applicants should describe the content of orientation programs for U.S. experts before departure to Uzbekistan. Also, applicants should include a plan to follow up with the U.S. experts when they return from Uzbekistan.

Participants: Applicants should describe recruitment of U.S. participants, preferably from among specialists who have worked with Uzbek participants during the U.S.-based part of this program. Participants should be American experts on religion and religious pluralism, including religious scholars, religious organization leaders, clerics, and professionals active in community/religious relations. ECA and Public Affairs Section of the U.S. Embassy in Tashkent must approve final selections.

Media: For both components, the implementing organization will work with PAS Tashkent to coordinate media coverage in Uzbekistan with a USAID-funded grantee that will be responsible for working with local media outlets.

Note: In a separate solicitation, the Bureau anticipates announcing the Uzbekistan Educational Partnerships Program in Religious and Cultural Studies. That program will support academic linkages between scholars and institutions in the United States and selected counterparts in Uzbekistan. The Uzbek institutions identified for participation in the Uzbekistan Educational Partnerships Program in Religious and Cultural Studies may be appropriate venues for experts sponsored by the Cultural and Religious Pluralism in Uzbekistan and the United States Program. Therefore the grantees in the two programs for Uzbekistan will be expected to coordinate activities closely with one another to make sure that the activities of the two programs are complementary.

Evaluation: In general, evaluation should occur throughout the project. The evaluation should incorporate an assessment of the program from a variety of perspectives. Specifically, project assessment efforts will focus on: (a) Determining if objectives are being met or have been met, (b) identifying any unmet needs, and (c) assessing if the project has effectively discovered resources, advocates, and financial support for sustainability of future projects. Informal evaluation through discussions and other sources of feedback will be carried out throughout the duration of the project. Formal evaluation must be conducted at the end of each component, should measure the impact of the activities and should obtain participants' feedback on the program content and administration. A detailed evaluation should be conducted at the conclusion of the project and included in the final report submitted to the Department of State Bureau of Educational and Cultural Affairs. When possible, the evaluation should be conducted by an independent evaluator.

Program Data Requirements: Organizations that are awarded grants will be required to maintain specific data on program participants and activities in an electronically accessible database format that can be shared with the Bureau as required. As a minimum, the data must include the following:

(1) Name, address, contact information and biographic sketch of all persons who travel internationally on funds provided by the grant or who benefit from the grant funding but do not travel.

(2) Itineraries of international and domestic travel, providing dates of travel and cities in which any exchange experiences take place.

Budget Guidelines and Cost-Sharing Requirements: Applicants must submit a comprehensive budget for the entire program. Applicants must provide a summary budget as well as breakdowns reflecting both administrative and program budgets. Applicants may provide separate sub-budgets for each program component, phase, location, or activity to provide clarification. Please refer to the Proposal Submission Instructions (PSI) for complete budget guidelines and formatting instructions. Since Bureau grant assistance constitutes only a portion of total project funding, proposals should list and provide evidence of other anticipated sources of financial and in-kind support. Competitive proposals will provide cost sharing to the fullest extent possible beyond ECA's minimum cost-sharing requirements.

The following program costs are eligible for funding consideration:

1. Travel Costs. International and domestic airfares (per the Fly America Act), transit costs, ground transportation costs, and visas for U.S. participants (J-1 visas for Bureau-supported participants from Eurasia to travel to the U.S. are issued at no charge).

2. Per Diem. For U.S.-based programming, organizations should use the published Federal per diem rates for individual U.S. cities. For activities in Uzbekistan, ECA strongly encourages applicants to budget realistic costs that reflect the local economy. Domestic per diem rates may be accessed at: http://www.policyworks.gov/ and foreign per diem rates can be accessed at: http://www.state.gov/www/perdiems/index.html.

3. Interpreters. Local interpreters with adequate skills and experience may be used for program activities. The Bureau strongly encourages applicants to use local interpreters, if possible. Salary costs for local interpreters must be included in the budget. Costs associated with using their services may not exceed rates for U.S. Department of State interpreters. Typically, one interpreter is provided for every four visitors who require interpreting, with a minimum of two interpreters. Bureau grants do not pay for foreign interpreters to accompany delegations from their home country. U.S. Department of State Interpreters may be used for highly technical programs with the approval of the Office of Citizen Exchanges. Proposal budgets should contain a flat $170/day per diem for each U.S. Department of State interpreter, as well as home-program-home air transportation of $400 per interpreter, reimbursements for taxi fares, plus any other transportation expenses during the program. Salary expenses for State Department interpreters are covered centrally and should not be part of an applicant's proposed budget.

4. Book and cultural allowance. Foreign participants are entitled to a one-time cultural allowance of $150 per person, plus a book allowance of $50. Interpreters should be reimbursed up to $150 for expenses when they escort participants to cultural events. U.S. program staff, trainers or participants are not eligible to receive these benefits.

5. Consultants. Consultants may be used to provide specialized expertise or to make presentations. Daily honoraria cannot exceed $250 per day. Subcontracting organizations may also be used, in which case the written agreement between the prospective grantee and subcontractor should be included in the proposal. Subcontracts should be itemized in the budget.

6. Room rental. Room rental may not exceed $250 per day.

7. Materials development. Proposals may contain costs to purchase, develop and translate materials for participants. The Bureau strongly discourages the use of automatic translation software for the preparation of training materials or any information distributed to the group of participants or network of organizations. Costs for high-quality translation of materials should be anticipated and included in the budget. Grantee organizations should expect to submit a copy of all program materials to the Bureau.

8. Equipment. Proposals may contain costs to purchase equipment for Eurasia-based programming such as computers, fax machines and copy machines. Costs for furniture are not allowed. Equipment costs must be kept to a minimum.

9. Working meal. Only one working meal may be provided during the program. Per capita costs may not exceed $5-8 for a lunch and $14-20 for a dinner, excluding room rental. The number of invited guests may not exceed participants by more than a factor of two-to-one. Interpreters must be included as participants.

10. Return travel allowance. A return travel allowance of $70 for each foreign participant may be included in the budget. The allowance may be used for incidental expenses incurred during international travel.

11. Health Insurance. Foreign participants will be covered under the terms of a Bureau-sponsored health insurance policy. The Bureau pays the premium directly to the insurance company. Applicants are permitted to include costs for travel insurance for U.S. participants in the budget.

12. Wire transfer fees. When necessary, applicants may include costs to transfer funds to partner organizations overseas.

13. Administrative Costs. Costs necessary for the effective administration of the program may include salaries for grantee organization employees, benefits, and other direct and indirect costs per detailed instructions in the Application Package. While there is no rigid ratio of administrative to program costs, priority will be given to proposals whose administrative costs are less than twenty-five (25) per cent of the total requested from the Bureau. Proposals should show strong administrative cost-sharing contributions from the applicant, the in-country partner and other sources.

Announcement Title and Number: All correspondence with the Bureau concerning this RFGP should reference the above title and number ECA/PE/C/EUR-03-23.

FOR FURTHER INFORMATION CONTACT: Brent Beemer, Program Officer, The Office of Citizen Exchanges Europe/Eurasia Division ECA/PE/C/EUR, Room 220, U.S. Department of State, 301 4th Street, SW., Washington, DC 20547, (202) 401-6887, fax: (202) 260-0440, bbeemer@pd.state.gov. The Solicitation Package contains detailed award criteria, required application forms, specific budget instructions, and standard guidelines for proposal preparation. Please specify Bureau Program Officer Brent Beemer on all other inquiries and correspondence.

Please read the complete Federal Register announcement before sending inquiries or submitting proposals. Once the RFGP deadline has passed, Bureau staff may not discuss this competition with applicants until the proposal review process has been completed.

To Download a Solicitation Package Via Internet: The entire Solicitation Package may be downloaded from the Bureau's Web site at http://exchanges.state.gov/education/RFGPs. Please read all information before downloading.

Deadline for Proposals: All proposal copies must be received at the Bureau of Educational and Cultural Affairs by 5 p.m. Washington, DC time on Friday, April 11, 2003. Faxed documents will not be accepted at any time. Documents postmarked the due date but received on a later date will not be accepted. Each applicant must ensure that the proposals are received by the above deadline.

Applicants must follow all instructions in the Solicitation Package narrative. The original and eight copies of the application should be sent to: U.S. Department of State, SA-44, Bureau of Educational and Cultural Affairs, Ref.: ECA/PE/C/EUR-03-23, Program Management, ECA/EX/PM, Room 534, 301 4th Street, SW., Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs section at the US Embassy for its review, with the goal of reducing the time it takes to get embassy comments for the Bureau's grants review process.

Note: Proposal should not exceed a narrative of 20 pages double spaced in length.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity’ section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Office of Citizen Exchanges of the Bureau of Educational and Cultural Affairs is the official program sponsor of the exchange program covered by this RFGP, and an employee of the Bureau will be the “Responsible Officer” for the program under the terms of 22 CFR part 62, which covers the administration of the Exchange Visitor Program (J visa program). Under the terms of 22 CFR part 62, organizations receiving grants under this RFGP will be third parties “cooperating with or assisting the sponsor in the conduct of the sponsor's program.” The actions of grantee program organizations shall be “imputed to the sponsor in evaluating the sponsor's compliance with” 22 CFR part 62. Therefore, the Bureau expects that any organization receiving a grant under this competition will render all assistance necessary to enable the Bureau to fully comply with 22 CFR part 62 et seq. The Bureau of Educational and Cultural Affairs places great emphasis on the secure and proper administration of Exchange Visitor (J visa) Programs and adherence by grantee program organizations and program participants to all regulations governing the J visa program status. Therefore, proposals should explicitly state in writing that the applicant is prepared to assist the Bureau in meeting all requirements governing the administration of Exchange Visitor Programs as set forth in 22 CFR part 62. If the applicant has experience as a designated Exchange Visitor Program Sponsor, the applicant should discuss their record of compliance with 22 CFR part 62 et. seq., including the oversight of their Responsible Officers and Alternate Responsible Officers, screening and selection of program participants, provision of pre-arrival information and orientation to participants, monitoring of participants, proper maintenance and security of forms, record-keeping, reporting and other requirements.

The Office of Citizen Exchanges of ECA will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 401-9810, Fax: (202) 401-9809.

Review Process

The Bureau will acknowledge receipt of all proposals and will review them for technical eligibility. Proposals will be deemed ineligible if they do not fully adhere to the guidelines stated herein and in the Proposal Submission Instructions (PSI). The Program Office, the State Department Regional Office, as well as the Public Diplomacy section overseas will review all eligible proposals. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards resides with the Bureau's Grants Officer.

Review Criteria

Technically eligible applications will be competitively reviewed according to the criteria stated below. These criteria are not rank ordered and all carry equal weight in the proposal evaluation:

1. Program Planning and Ability to Achieve Program Objectives: Program objectives should be stated clearly and should reflect the applicant's expertise in the subject area and region. Objectives should respond to the priority topics in this announcement and should relate to the current conditions in Uzbekistan. A detailed agenda and relevant work plan should explain how objectives will be achieved and should include a timetable for completion of major tasks. The substance of workshops, internships, seminars and/or consulting should be described in detail. Sample training schedules should be outlined.

2. Institutional Capacity: The proposal should include (1) The U.S. institution's mission and date of establishment (2) an outline of prior awards—U.S. government and private support received for the selected theme/region (3) descriptions of experienced staff members who will implement the program. Proposed personnel and institutional resources should be adequate and appropriate to achieve the program's goals. The proposal should reflect the institution's expertise in the subject area and knowledge of the conditions in the selected country. Proposals should demonstrate an institutional record of successful exchange programs, including responsible fiscal management and full compliance with all reporting requirements for past Bureau grants as determined by Bureau Grant Staff. The Bureau will consider the past performance of prior recipients and the demonstrated potential of new applicants.

3. Cost Effectiveness and Cost Sharing: Overhead and administrative costs for the proposal, including salaries, honoraria and subcontracts for services, should be kept to a minimum. Priority will be given to proposals whose administrative costs are less than twenty-five (25) per cent of the total funds requested from the Bureau. Applicants are encouraged to cost share a portion of overhead and administrative expenses. Cost-sharing, including contributions from the applicant, the in-country partner, and other sources should be included in the budget request.

4. Multiplier Effect and Impact: Proposed programs should strengthen long-term mutual understanding, should enhance information sharing and should establish long-term institutional and individual linkages. Applicants should describe how responsibility and ownership of the project will be transferred to the in-country partners and participants to ensure continued impact.

5. Support of Diversity: Proposals should demonstrate substantive support of the Bureau's policy on diversity. Achievable and relevant features should be cited in both program administration (selection of participants, program venues and program evaluation) and program content (orientation and wrap-up sessions, program meetings, resource materials and follow-up activities). Applicants should refer to the Bureau's Diversity, Freedom and Democracy Guidelines in the Proposal Submission Instructions (PSI).

6. Follow-on Activities: Proposals should provide a plan for continued follow-on activity ensuring that Bureau supported programs are not isolated events.

7. Evaluation: Proposals should include a detailed plan to monitor and evaluate the program. A draft survey questionnaire plus a description of a methodology to use to link outcomes to original project objectives should be included. Successful applicants will be expected to submit intermediate reports after each project component concludes or on a quarterly basis, whichever is less frequent.

Authority: Overall grant making authority for this program is contained in the Mutual Educational and Cultural Exchange Act of 1961, Public Law 87-256, as amended, also known as the Fulbright-Hays Act. The purpose of the Act is “to enable the Government of the United States to increase mutual understanding between the people of the United States and the people of other countries* * *; to strengthen the ties which unite us with other nations by demonstrating the educational and cultural interests, developments, and achievements of the people of the United States and other nations* * *and thus to assist in the development of friendly, sympathetic and peaceful relations between the United States and the other countries of the world.” The funding authority for the program above is provided through the FREEDOM Support Act (FSA) legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: January 28, 2003.
C. Miller Crouch,
Principal Deputy Assistant Secretary, Bureau of Educational and Cultural Affairs, Department of State.

[FR Doc. 03-2924 Filed 2-5-03; 8:45 am]

BILLING CODE 4710-05-P